DEPARTMENT OF THE INTERIOR

National Park Service

[NPS-WASO-NRNHL-24142; PPWOCRADI0, PCU00RP14.R50000]

National Register of Historic Places; Notification of Pending Nominations and Related Actions

AGENCY: National Park Service, Interior.

ACTION: Notice.

SUMMARY: The National Park Service is soliciting comments on the significance of properties nominated before September, 9, 2017, for listing or related actions in the National Register of Historic Places.

DATES: Comments should be submitted by October 19, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before September, 9, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Maricopa County

Liberty Methodist Episcopal Church, South, 19912 W. US 85, Buckeye, SG100001752

MISSOURI

Adair County

Salisbury School, (One-Teacher Public Schools of Missouri MPS), MO K, Kirksville vicinity, MP100001757

Jackson County

Aurora Apartments, (Working-Class and Middle-Income Apartment Buildings in Kansas City, Missouri MPS), 3012-3014 Linwood Blvd, Kansas City, MP100001758

Interstate Securities Building, 215 E. 18th St., Kansas City, SG100001759

St. Francis Xavier School, 5220 Troost Ave., Kansas City, SG100001760

St. Louis Independent city

Banneker School, 2840 Samuel Shepard Dr., St. Louis (Independent City), SG100001761

PUERTO RICO

Anasco Municipality

Hostos—Ramirez de Arellano School District, (Early Twentieth Century Schools in Puerto Rico TR), Calle San Antonio, Calle 65th de Infanteria, Anasco vicinity, MP100001762

San Juan Municipality

Mural “La Famila” 2030 Avenida Borinquen, San Juan vicinity, SG100001763

TEXAS

Dallas County

First National Bank Tower, 1401 Elm St., Dallas, SG100001764

An additional documentation has been received for the following resource(s):

ARIZONA

Maricopa County

Story, F.Q., Neighborhood Historic District (Additional Documentation), 1617 W. Culver St., Phoenix, AD88000212

Pima County

El Encanto Estates Residential Historic District (Additional Documentation), Roughly bounded by Country Club Rd., Broadway Blvd., Fifth St., & Jones St., Tucson, AD87002284

Nominations submitted by Federal Preservation Officers:

The State Historic Preservation Officer reviewed the following nomination and responded to the Federal Preservation Officer within 45 days of receipt of the nomination and supports listing the property in the National Register of Historic Places.

COLORADO

Hinsdale County

Ute—Ulay Mine and Mill, (Hinsdale County Metal Mining MPS), Cty. Rd. 20, Lake City vicinity, MP100001755

Authority: 60.13 of 36 CFR part 60

Dated: September 12, 2017.
Julie H. Ernstein,
Acting Chief, National Register of Historic Places/National Historic Landmarks Program.

[FR Doc. 2017-21303 Filed 10-3-17; 8:45 am]

BILLING CODE 4312-52-P